DEPARTMENT OF ENERGY

Federal Energy Regulatory Commission

18 CFR Part 40

[Docket No. RM13-8-000]

Electric Reliability Organization Proposal To Retire Requirements in Reliability Standards

AGENCY: Federal Energy Regulatory Commission.

ACTION: Notice of proposed rulemaking.

SUMMARY: This document contains corrections to the proposed rule (RM13-8-000) which was published in the Federal Register of Friday, June 28, 2013 (78 FR 38851). The proposed regulations would approve the retirement of 34 requirements within 19 Reliability Standards identified by the North American Electric Reliability Corporation (NERC), the Commission-certified Electric Reliability Organization.

FOR FURTHER INFORMATION CONTACT:

Kevin Ryan (Legal Information), Office of the General Counsel, Federal Energy Regulatory Commission, 888 First Street NE., Washington, DC 20426, Telephone: (202) 502-6840.

Michael Gandolfo (Technical Information), Office of Electric Reliability, Division of Reliability Standards and Security, Federal Energy Regulatory Commission, 888 First Street NE., Washington, DC 20426, Telephone: (202) 502-6817.

SUPPLEMENTARY INFORMATION:

Errata Notice

On June 20, 2013, the Commission issued a “Notice of Proposed Rulemaking” in the above-captioned proceeding, Electric Reliability Organization Proposal to Retire Requirements in Reliability Standards, 143 FERC ¶ 61,251 (2013).

This errata notice serves to correct P 90 and the associated table. Specifically, in P 90, the estimate “$535,500” in the first sentence is changed to “$518,220.”

In the table in P 90, the “Estimated Total Annual Reduction in Burden (in hours)” for FAC-013-2, R3 and INT-007-1, R1.2 is changed from “1,600” to “640” and from “448” to “1,120,” respectively, and the Total is changed from “8,925” to “8,637.”

In addition, in the table in P 90, the “Estimated Total Annual Reduction in Cost” for FAC-013-2, R3 and INT-007-1, R1.2 is changed from “$96,000” to “$38,400” and from “$26,880” to “$67,200,” respectively, and the Total is changed from “$535,500” to “$518,220.”

In FR Doc. 2013-15433 appearing on page 38851 in the Federal Register of Friday, June 28, 2013, the same corrections are made:

1. On page 38860, in P 90, the estimate “$535,500” in the first sentence is changed to “$518,220.”

2. On page 38860, in the table in P 90, the “Estimated Total Annual Reduction in Burden (in hours)” for FAC-013-2, R3 and INT-007-1, R1.2 is changed from “1,600” to “640” and from “448” to “1,120,” respectively, and the Total is changed from “8,925” to “8,637.”

3. On page 38860, in the table in P 90, the “Estimated Total Annual Reduction in Cost” for FAC-013-2, R3 and INT-007-1, R1.2 is changed from “$96,000” to “$38,400” and from “$26,880” to “$67,200,” respectively, and the Total is changed from “$535,500” to “$518,220.”

Dated: July 3, 2013.
Kimberly D. Bose,
Secretary.

[FR Doc. 2013-16495 Filed 7-9-13; 8:45 am]

BILLING CODE 6717-01-P